DEPARTMENT OF DEFENSE

Office of the Secretary

[Docket ID: DoD-2013-OS-0118]

Proposed Collection; Comment Request

AGENCY: Defense Security Cooperation Agency, DoD.

ACTION: Notice.

In compliance with Section 3506(c)(2)(A) of the Paperwork Reduction Act of 1995, the Defense Security Cooperation Agency announces the reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 23, 2013.

ADDRESSES: You may submit comments, identified by number and title by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public to make these submissions available for public viewing on the Internet at http://www.regulations.gov as they are received without change, including any personal identifiers or contact information.

FOR FURTHER INFORMATION CONTACT: To request more information on this proposed information collection or to obtain a copy of the proposal and associated collection instruments, please write to the Defense Security Cooperation Agency (DSCA), ATTN: David Frasher, 220 12th Street, South, Suite 203, Arlington, VA 22202-5408 or call (703) 601-4459.

Title; Associated Form; and OMB Number: International Military Student Information, DD Form 2339 (automated); OMB Number 0704-TBD (Previously cleared under OMB Control Number 0702-0064).

Needs and Uses: This DD Form 2339 (automated) is required in support of international military students who are attending training in the United States as part of the security assistance training program. The DD Form 2339 (automated) is utilized in gather information on the international student prior to his/her arrival in the United States in order that civilian and military sponsors can be assigned to assist the student during his/her training.

Affected Public: Individuals or households.

Annual Burden Hours: The estimated total burden hours for collection and entry of International Military Student Information (IMSI) into TMS are 750 hours. This estimate is derived by taking the approximate number of DD Form 2339s submitted (approx 3,000 submitted, one for each student) and multiplying it by the approximate time (15 minutes) it takes to collect and enter IMSI, then dividing by 60 minutes; (3,000 * 15)/60 = 750 hours.

Number of Respondents: 3,000.

Responses per Respondent: 1.

Frequency: On occasion.

SUPPLEMENTARY INFORMATION:

Summary of Information Collection

The International Military Student Information (IMSI) is utilized by the security cooperation organizations and pertains only to non U.S. citizens who are members of a foreign military service that have been designated by their government to attend training in the United States. The IMSI is utilized by the gaining organization to provide background information on the individual in order that a military or civil sponsor may be assigned to assist the individual during his/her stay in the United States.

Dated: May 20, 2013.
Patricia Toppings,
OSD Federal Register, Liaison Officer, Department of Defense.

[FR Doc. 2013-12409 Filed 5-23-13; 8:45 am]

BILLING CODE 5001-06-P